DEPARTMENT OF THE INTERIOR

National Park Service

[NPS-WASO-D-COS-POL-17739; PPWODIREP0][PPMPSPD1Y.YM0000]

Notice of May 6-7, 2015, Meeting of the National Park System Advisory Board

AGENCY: National Park Service, Interior.

ACTION: Meeting notice.

SUMMARY: Notice is hereby given in accordance with the Federal Advisory Committee Act, 5 U.S.C. Appendix 1-16, and Part 65 of title 36 of the Code of Federal Regulations that the National Park System Advisory Board will meet May 6-7, 2015, in Pensacola Beach, Florida. The agenda will include the review of proposed actions regarding the National Historic Landmarks (NHL) Program. Interested parties are encouraged to submit written comments and recommendations that will be presented to the Board. Interested parties also may attend the board meeting and upon request may address the Board concerning an area's national significance.

DATES: Comments. Written comments regarding any proposed National Historic Landmarks matter listed in this notice will be accepted by the National Park Service until May 8, 2015.

Meeting. The Board will meet on May 6-7, 2015.

ADDRESSES: The meeting will be held at Gulf Islands National Seashore in the Auditorium of Fort Pickens Building 5 (Museum), 1400 Fort Pickens Road, Pensacola Beach, Florida 32561, telephone (850) 934-5666.

Agenda: On the morning of May 6, the Board will convene its business meeting at 8:30 a.m., Central Daylight Time, and adjourn for the day at 11:50 a.m. The Board will tour Gulf Islands National Seashore in the afternoon. On May 7, the Board will reconvene at 9 a.m., and adjourn at 3:30 p.m. During the course of the two days, the Board may be addressed by National Park Service Director Jonathan Jarvis and briefed by other National Park Service officials regarding education, philanthropy, NPS urban initiatives, science, and the National Park Service Centennial; deliberate and make recommendations concerning National Historic Landmarks Program proposals; and receive status briefings on matters pending before committees of the Board.

FOR FURTHER INFORMATION CONTACT: For information concerning the National Park System Advisory Board or to request to address the Board, contact Shirley Sears, National Park Service, MC 0004-Policy, 1849 C Street, NW., Washington, DC 20240, telephone (202) 354-3955, email Shirley_Sears@nps.gov.

To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW., MC 2280, Washington, DC 20240, email Paul_Loether@nps.gov.

SUPPLEMENTARY INFORMATION: Matters concerning the National Historic Landmarks Program will be considered by the Board at the morning session of the business meeting on May 6 during which the Board may consider the following:

Nominations for NHL Designation

Alabama

• U.S. Post Office and Courthouse (Frank M. Johnson Jr. Federal Building and U.S. Courthouse), Montgomery, AL

Colorado

• Red Rocks Park and Mount Morrison Civilian Conservation Corps Camp, Jefferson County, CO

Georgia

• U.S. Post Office and Courthouse (Elbert Parr Tuttle U.S. Court of Appeals Building), Atlanta, GA

Illinois

• Henry Gerber House, Chicago, IL

Louisiana

• U.S. Court of Appeals-Fifth Circuit (John Minor Wisdom U.S. Court of Appeals Building), New Orleans, LA

Michigan

• Lafayette Park, Detroit, MI

Montana

• First Peoples Buffalo Jump, Cascade County, MT

Virginia

• George Washington Masonic National Memorial, Alexandria, VA

Proposed Withdrawal of NHL Designation

New York

• Old Blenheim Bridge, Schoharie County, NY

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 12th floor conference room at 1201 Eye Street NW., Washington, DC.

Dated: March 3, 2015.
Alma Ripps,
Chief, Office of Policy.

[FR Doc. 2015-05362 Filed 3-6-15; 8:45 am]

BILLING CODE 4310-EE-P